DEPARTMENT OF TRANSPORTATION

Federal Railroad Administration

[Docket Number FRA-2001-9270]

Wabtec Railway Electronics; Public Hearing

On April 6, 2001, the Federal Railroad Administration (FRA) published a notice in the Federal Register (66 FR 18351) announcing Wabtec Railway Electronic's (Wabtec) request to obtain a permanent waiver of compliance from certain provisions of the Power Brakes and Drawbars regulations, 49 CFR part 232, regarding two-way end-of-train devices. Specifically, § 232.23(f)(2), which requires: “The rear unit batteries shall be sufficiently charged at the initial terminal or other point where the device is installed and throughout the train's trip to ensure that the end-of-train-device will remain operative until the train reaches its destination.” Due to an administrative error on the part of the agency, an incomplete copy of Wabtec's petition was filed in the public docket. That error was corrected and FRA extended the comment period by thirty days with a notice in the Federal Register (66 FR 31274).

As a result of the comments received by FRA concerning this waiver petition, FRA has determined that a public hearing is necessary before a final decision is made on this petition. Accordingly, a public hearing is hearby set for 10 a.m. on October 18, 2001, in Conference Room #1 on the seventh floor, at the FRA Headquarters Building, 1120 Vermont Avenue NW., Washington, DC 20005. Interested parties are invited to present oral statements at this hearing. The hearing will be informal and will be conducted in accordance with Rule 25 of the FRA Rules of Practice (49 CFR 211.25) by a representative designated by the FRA. The FRA representative will make an opening statement outlining the scope of the hearing, as well as any additional procedures for the conduct of the hearing. The hearing will be a non-adversarial proceeding in which all interested parties will be given the opportunity to express their views regarding this waiver petition, without cross-examination. After all initial statements have been completed, those persons wishing to make a brief rebuttal will be given an opportunity to do so in the same order in which initial statements were made.

Issued in Washington, DC, on September 12, 2001.
Grady C. Cothen, Jr.,
Deputy Associate Administrator for Safety Standards and Program Development.

[FR Doc. 01-23547 Filed 9-20-01; 8:45 am]

BILLING CODE 4910-06-P